DEPARTMENT OF ENERGY

Federal Energy Regulatory Commission

[Project No. 11572-001]

Roosevelt Water Conservation District; Notice of Termination of Exemption by Implied Surrender and Soliciting Comments, Protests, and Motions To Intervene

Take notice that the following hydroelectric proceeding has been initiated by the Commission:

a. Type of Proceeding: Termination of exemption by implied surrender.

b. Project No.: 11572-001.

c. Date Initiated: January 9, 2012.

d. Exemptee: Roosevelt Water Conservation District.

e. Name and Location of Project: The Roosevelt Water Conservation District Conduit Hydropower Project (RWCD) is located on the RWCD irrigation canal, near Mesa City, in Maricopa County, Arizona.

f. Filed Pursuant to: 18 CFR 4.106.

g. Exemptee Contact Information: Mr. Michael Leonard, General Manager, Roosevelt Water Conservation District, 2344 S. Higley Road, Gilbert, AZ 82595-4794, (480) 988-9586.

h. FERC Contact: Patricia W. Gillis, (202) 502-8735, or patricia.gillis@ferc.gov.

i. Deadline for filing comments, protests, and motions to intervene is 30 days from the issuance date of this notice. All documents may be filed electronically via the Internet in lieu of paper. See 18 CFR 385.2001(a)(1)(iii) and the instructions on the Commission's Web site at http://www.ferc.gov/docs-filing/efiling.asp. The Commission strongly encourages electronic filings. If unable to be filed electronically, documents may be paper-filed. To paper-file, an original and seven copies should be sent to: The Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-11572-001) on any documents or motions filed.

j. Description of Existing Facilities: The inoperative project consists of the following existing facilities: (1) A bifurcation attached to the applicant's existing irrigation conduit; (2) a 42-inch-diameter, 100-foot-long penstock; and (3) a powerhouse containing one generating unit with a total capacity of 860 kilowatts.

k. Description of Proceeding: The exemptee is currently in violation of Standard Article 1 of its exemption granted on August 28, 1996 (76 FERC ¶ 62,150). Section 4.106 of the Commission's regulations, 18 CFR 4.106, provides, among other things, that the Commission reserves the right to revoke an exemption if any term or condition of the exemption is violated. The project has not operated since 2004 or 2005, when testing determined that the equipment could not operate without significant retro-fit to the underlying irrigation system at a substantial cost. By not operating the project as proposed and authorized, the exemptee is in violation of the terms and conditions of the exemption.

On November 3, 2011, the Commission directed the exemptee to file a plan and schedule for restoring operation to the project or surrendering the exemption. The Commission also informed the exemptee that it was in violation of the terms and conditions of the exemption. The Commission required the exemptee to show cause within 30 days why the exemption should not be revoked. A response was not filed by the exemptee. To date, the information requested from the exemptee has not been filed and the project remains inoperative.

l. This notice is available for review and reproduction at the Commission in the Public Reference Room, Room 2A, 888 First Street NE., Washington, DC 20426. The filing may also be viewed on the Commission's Web site at http://www.ferc.gov/docs-filing/elibrary.asp. Enter the Docket number (P-11572) excluding the last three digits in the docket number field to access the notice. You may also register online at http://www.ferc.gov/docs-filing/esubscription.asp to be notified via email of new filings and issuances related to this or other pending projects. For assistance, call toll-free 1-(866) 208-3676 or email FERCOnlineSupport@ferc.gov. For TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular proceeding.

o. Filing and Service of Responsive Documents—Any filing must (1) bear in all capital letters the title “COMMENTS”, “PROTEST”, or “MOTION TO INTERVENE,” as applicable; (2) set forth in the heading the project number of the proceeding to which the filing responds; (3) furnish the name, address, and telephone number of the person commenting, protesting or intervening; and (4) otherwise comply with the requirements of 18 CFR 385.2001 through 385.2005. All comments, protests or motions to intervene must set forth their evidentiary basis and otherwise comply with the requirements of 18 CFR 4.34(b). All comments, protests, or motions to intervene should relate to project works which are the subject of the termination of exemption. A copy of any protest or motion to intervene must be served upon each representative of the exemptee specified in item g above. If an intervener files comments or documents with the Commission relating to the merits of an issue that may affect the responsibilities of a particular resource agency, they must also serve a copy of the document on that resource agency. A copy of all other filings in reference to this notice must be accompanied by proof of service on all persons listed in the service list prepared by the Commission in this proceeding, in accordance with 18 CFR § 4.34(b) and 385.2010.

p. Agency Comments—Federal, State, and local agencies are invited to file comments on the described proceeding. If any agency does not file comments within the time specified for filing comments, it will be presumed to have no comments.

Dated: January 12, 2012.
Kimberly D. Bose,
Secretary.

[FR Doc. 2012-1083 Filed 1-19-12; 8:45 am]

BILLING CODE 6717-01-P